FEDERAL MARITIME COMMISSION

Notice of Agreements Filed

The Commission hereby gives notice of filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of General Counsel at (202)-523-5740 or GeneralCounsel@fmc.gov.

Agreement No.: 010071-049.

Agreement Name: Cruise Lines International Association.

Parties: Aida Cruises, American Cruise Lines, Inc., Albatros Expeditions A/S; Ambassador Cruise Line Limited; American Cruise Lines Inc.; Atlas Ocean Voyages; Aurora Expeditions; Australian Pacific Touring Pty Ltd; Azamara; Carnival Cruise Lines; Celebrity Cruises, Inc.; Celestyal Cruises; Coral Expeditions; Costa Cruise Lines (Costa Crociere S.P.A.); Crystal Cruises USA LLC (Crystal Cruises Ltd); Cunard Line; Disney Cruise Line Limited; Disney Cruise Line; Emerald Cruises; Explora SA; Fred Olsen Cruise Lines Limited; Hapag-Lloyd Cruises; Heritage Expeditions Limited; Holland America Line N.V.; Marella Cruises; MSC Cruises S.A.; Mystic Cruises; Norwegian Cruise Line Holdings Ltd; Oceania Cruises Inc.; P&O Cruises; Pearl Seas Cruises LLC; Ponant Yacht Cruises & Expeditions; Princess Cruises; Quark Expeditions; Regent Seves Seas Cruises; Royal Caribbean International; SAGA Cruises Limited; Scenic Luxury Cruises & Tours; Sea Cloud Cruises GmbH; Seabourn Cruise Line Limited; Seadream Yacht Club, Ltd.; Swan Hellenic Cruises; TUI Cruises GmbH; Virgin Voyages; and Windstar Cruises.

Filing Party: Tonia Woodley, Cruise Lines International Association.

Synopsis: The amendment updates the membership of the Agreement and revises the Agreement's by-laws.

Proposed Effective Date: 1/21/2026.

Location: https://www2.fmc.gov/FMC.Agreements.Web/Public/AgreementHistory/999.

Agreement No.: 201349-006.

Agreement Name: World Shipping Council Agreement.

Parties: COSCO Shipping Lines Co., Ltd., Orient Overseas Container Line Ltd., and OOCL (Europe) Limited (acting as a single party); CMA CGM S.A., APL Co. Pte. Ltd., American President Lines, LLC and ANL Singapore Pte Ltd. (acting as a single party); Crowley Caribbean Services, LLC and Crowley Latin America Services, LLC (acting as a single party); Emirates Shipping Line FZE; Evergreen Marine Corporation (Taiwan) Ltd.; Hapag-Lloyd AG; HMM Company Limited; Independent Container Line, Ltd.; Kawasaki Kisen Kaisha Ltd., Maersk A/S and Hamburg Sud (acting as a single party); Matson Navigation Company, Inc.; MSC Mediterranean Shipping Company SA; Mitsui O.S.K. Lines Ltd.; Nippon Yusen Kaisha; Ocean Network Express Pte. Ltd.; Swire Shipping, Pte. Ltd.; Wallenius Wilhelmsen Ocean AS; Wan Hai Lines Ltd. and Wan Hai Lines (Singapore) Pte Ltd. (acting as a single party); Yang Ming Marine Transport Corp.; and Zim Integrated Shipping Services, Ltd.

Filing Party: Robert Magovern, Cozen O'Connor.

Synopsis: The Amendment would add Höegh Autoliners AS as a party to the Agreement.

Proposed Effective Date: 3/2/2026.

Location: https://www2.fmc.gov/FMC.Agreements.Web/Public/AgreementHistory/34503.

Agreement No.: 201429-003.

Agreement Name: Gemini Cooperation Agreement.

Parties: Hapag-Lloyd AG and Hapag-Lloyd USA LLC (acting as a single party); and Maersk A/S.

Filing Party: Wayne Rohde, Cozen O'Connor.

Synopsis: The amendment revises the Agreement to modify the timing of discussions regarding potential seasonal blank sailings.

Proposed Effective Date: 3/6/2026.

Location: https://www2.fmc.gov/FMC.Agreements.Web/Public/AgreementHistory/86566.

Agreement No.: 201449-001.

Agreement Name: ONE to YML AT4 Slot Charter Agreement.

Parties: Ocean Network Express Pte. Ltd.; & Yang Ming Joint Service Agreement.

Filing Party: Joshua Stein, Cozen O'Connor.

Synopsis: The amendment adds France and Canada to the geographic scope of the Agreement.

Proposed Effective Date: 1/20/2026.

Location: https://www2.fmc.gov/FMC.Agreements.Web/Public/AgreementHistory/88599.

Dated: January 23, 2026.
Jennifer Everling,
Assistant Secretary.

[FR Doc. 2026-01607 Filed 1-26-26; 8:45 am]

BILLING CODE 6730-02-P